DEPARTMENT OF ENERGY

Federal Energy Regulatory Commission

[Project No. 10661-051]

Indiana Michigan Power Company; Notice of Reasonable Period of Time for Water Quality Certification Application

On February 27, 2025, the Michigan Department of Environment, Great Lakes, and Energy (Michigan EGLE) submitted to the Federal Energy Regulatory Commission (Commission) notice that it received a request for a Clean Water Act section 401(a)(1) water quality certification as defined in 40 CFR 121.5, from Indiana Michigan Power Company, in conjunction with the above captioned project on February 25, 2025. Pursuant to section 5.23(b) of the Commission's regulations,¹ we hereby notify Michigan EGLE of the following:

¹ 18 CFR 5.23(b).

Date of Receipt of the Certification Request: February 25, 2025.

Reasonable Period of Time to Act on the Certification Request: One year (February 25, 2026).

If Michigan EGLE fails or refuses to act on the water quality certification request on or before the above date, then the certifying authority is deemed waived pursuant to section 401(a)(1) of the Clean Water Act, 33 U.S.C. 1341(a)(1).

Dated: March 3, 2025.
Debbie-Anne A. Reese,
Secretary.

[FR Doc. 2025-03705 Filed 3-6-25; 8:45 am]

BILLING CODE 6717-01-P